DEPARTMENT OF TRANSPORTATION

Federal Aviation Administration

RTCA Special Committee 172: Future Air-Ground Communications in the Very High Frequency (VHF) Aeronautical Data Band (118-137 MHz)

AGENCY: Federal Aviation Administration (FAA), DOT.

ACTION: Notice of RTCA Special Committee 172 meeting.

SUMMARY: The FAA is issuing this notice to advise the public of a meeting of RTCA Special Committee 172: Future Air-Ground Communications in the VHF Aeronautical Data Band (118-137 MHz).

DATES: The meeting will be held July 18-21, 2005 from 9 a.m. to 5 p.m.

ADDRESSES: The meeting will be held at RTCA, Inc., 1828 L Street, NW., Suite 805, Washington, DC 20036.

FOR FURTHER INFORMATION CONTACT: RTCA Secretariat, 1828 L Street, SW., Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 172 meeting. The agenda will include:

• July 18:

• Opening Plenary Session (Welcome and Introductory Remarks, Review of Agenda, Review Summary of Previous Meeting)

• Resolve FRAC comments on draft DO-186B, Minimum Operational Performance Standards For Airborne Radio Communications Equipment Operating Within The Radio Frequency Range 117.975-137.000 MHz

• Resolve FRAC comments on draft DO-271C, Minimum Operational Performance Standards for Aircraft VDL Mode 3 Transceiver Operating in the Frequency Range 117.975-137.000 MHz

• Resolve FRAC comments on draft DO-281A, MINIMUM OPERATIONAL PERFORMANCE STANDARDS FOR AIRCRAFT VDL MODE 2 PHYSICAL, LINK, AND NETWORK LAYER

• July 19:

• Continue with resolution of FRAC comments on remaining draft DO-186B, DO-271C, DO-281A

• July 20:

• Continue with resolution of FRAC comments on remaining draft DO-186B, DO-271C. DP-281A (if needed)

• July 21:

• Continue with resolution of FRAC comments on remaining draft DO-186B, DO-271C, DO-281A (if needed)

• Closing Plenary Session (Other Business, Final Comments, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on July 7, 2005.
Natalie Ogletree,
FAA General Engineer, RTCA Advisory Committee.

Fifty-Fourth Meeting: Special Committee SC-172, Future Air-Ground Communications in the VHF Aeronautical Data Band (118-137 MHz)

Date: July 18-21, 2005.

Times: 9 a.m.-5 p.m.

Place: RTCA, Inc., 1828 L St. NW., Suite 805, Washington, DC 20036.

Agenda

Monday, July 18, 2005

1. Plenary, Introductions, Remarks and Accept Agenda.

2. Review the 53rd Plenary Summary.

3. Resolve FRAC comments on draft DO-186B, Minimum Operational Performance Standards for Airborne Radio Communications Equipment Operating Within the Radio Frequency Range 117.975-137.000 MHz.

4. Resolve FRAC comments on draft DO-271C, Minimum Operational Performance Standards for Aircraft VDL Mode 3 Transceiver Operating in the Frequency Range 117.975-137.000 MHz.

5. Resolve FRAC comments on draft DO-281A, Minimum Operational Performance Standards for Aircraft VDL Mode 2 Physical, Link, and Network Layer

Tuesday, July 19, 2005

6. Continue with resolution of FRAC comments on remaining draft DO-186B, DO-271C, DO-281A.

Wednesday, July 20, 2005

7. Continue with resolution of FRAC comments on remaining draft DO-186B, DO-271C, DO-281A (if needed).

Thursday, July 21, 2005

8. Continue with resolution of FRAC comments on remaining draft DO-186B, DO-271C, DO-281A (if needed).

9. Other business.

10. Final comments and thank you to all who participated in SC-172.

11. Adjournment of SC-172.

[FR Doc. 05-13763 Filed 7-12-05; 8:45 am]

BILLING CODE 4910-13-M